DEPARTMENT OF DEFENSE

Department of the Air Force

[Docket ID USAF-2013-0027]

Proposed Collection; Comment Request

AGENCY: Air Education and Training Command (AETC/A1R), Department of Defense/Department of the Air Force/Headquarters.

ACTION: Notice.

In compliance with Section 3506(c)(2)(A) of the Paperwork Reduction Act of 1995, the Department of the Air Force announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 15, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to HQ Air Education and Training Command (AETC/A1R), ATTN: C.K. Burnett, 1850 First Street West, Ste 1, JBSA Randolph TX 78150, or call 210-652-6099.

Title; Associated Form; and OMB Number: Victim/Witness Feedback Request; OMB Number 0701-TBD.

Needs And Uses: The information collection is requested, not required. It is necessary to provide this select group the opportunity to comment on their experiences as victims/witnesses in trial proceedings, and to help inform and modify processes and procedures that pertain to others in this same category in the future.

Affected Public: Individuals or households.

Annual Burden Hours: 4.

Number of Respondents: 16.

Responses per Respondent: 1.

Average Burden per Response: 15 minutes.

Frequency: On occasion.

SUPPLEMENTARY INFORMATION:

Summary of Information Collection

Respondents are former Air Force members, now members of the general public, who are former Basic Military Trainees and later became victims or witnesses in trial proceedings relating to their training experiences. Requesting and receiving direct feedback from this group would be helpful to inform and modify processes and procedures that pertain to others in this same category in the future.

Dated: May 9, 2013.
Aaron Siegel,
Alternate OSD Federal Register Liaison Officer, Department of Defense.

[FR Doc. 2013-11573 Filed 5-15-13; 8:45 am]

BILLING CODE 5001-06-P